DEPARTMENT OF TRANSPORTATION

Office of the Secretary

Applications of Atlas Air, Inc. for Certificate Authority

AGENCY: Department of Transportation.

ACTION: Notice of Order to Show Cause (Order 2010-X-X), Dockets DOT-OST-2009-0267 and DOT-OST-2009-0268.

SUMMARY: The Department of Transportation is directing all interested persons to show cause why it should not issue an order finding Atlas Air, Inc., fit, willing, and able, and awarding it a certificate of public convenience and necessity to engage in foreign charter air transportation of persons, property, and mail.

DATES: Persons wishing to file objections should do so no later than April 25, 2010.

ADDRESSES: Objections and answers to objections should be filed in Dockets DOT-OST-2009-0267 and DOT-OST-2009-0268 and addressed to U.S. Department of Transportation Dockets, 1200 New Jersey Avenue, SE., West Building Ground Floor, Rm. W12-140, Washington, DC 20590, and should be served upon the parties listed in Attachment A to the order.

FOR FURTHER INFORMATION CONTACT: Mr. Scott Faulk, Air Carrier Fitness Division (X-56, Room W86-487), U.S. Department of Transportation, 1200 New Jersey Avenue, SE., West Building, Washington, DC 20590, (202) 366-9721.

Dated: April 15, 2010.
Christa Fornaratto,
Deputy Assistant Secretary, for Aviation and International Affairs.

[FR Doc. 2010-9297 Filed 4-22-10; 8:45 am]

BILLING CODE P